DEPARTMENT OF THE INTERIOR

Bureau of Land Management

[L16100000.DQ0000.LXLUGSEM0000.LLUTPO1000]

Notice of Intent To Prepare a Resource Management Plan for the Grand Staircase-Escalante National Monument in Utah and an Associated Environmental Impact Statement

AGENCY: Bureau of Land Management, Interior.

ACTION: Notice of intent.

SUMMARY: In compliance with the National Environmental Policy Act of 1969, as amended (NEPA), the Federal Land Policy and Management Act of 1976, as amended (FLPMA), and Presidential Proclamation 10286, the Bureau of Land Management (BLM) Utah State Director intends to revise a Resource Management Plan (RMP) with an associated Environmental Impact Statement (EIS) for the Grand Staircase-Escalante National Monument (GSENM) and by this notice is announcing the beginning of the scoping period to solicit public comments and identify issues, is providing the planning criteria for public review, and is issuing a call for nominations for areas of critical environmental concern (ACECs). The RMP revision would replace the existing 2020 GSENM RMP and 2020 Kanab-Escalante Planning Area RMP.

DATES: The BLM requests the public submit comments concerning the scope of the analysis, potential alternatives, and identification of relevant information, studies, and ACEC nominations by September 27, 2022. To afford the BLM the opportunity to consider this information and ACEC nominations raised by commenters in the Draft RMP/EIS, please ensure your comments are received prior to the close of the 60-day scoping period or 15 days after the last public meeting, whichever is later.

The BLM also requests the public submit comments on the planning criteria by the same date identified above. The planning criteria will be made available to the public within the first 30 days of the 60-day comment period to ensure the public has at least 30 days to comment on the planning criteria as required by the planning regulations at 43 CFR 1610.2(e). To afford the BLM the opportunity to consider this information and ACEC nominations raised by commenters in the Draft RMP/EIS, please ensure your comments are received prior to the close of the 60-day scoping period or 15 days after the last public meeting, whichever is later.

ADDRESSES: You may submit comments on issues and planning criteria related to the GSENM RMP and nominations of new ACECs by any of the following methods:

• Website: https://eplanning.blm.gov/eplanning-ui/project/2020343/510

• Mail: ATTN: GSENM RMP Project Manager, BLM Paria River District, 669 S Highway 89A, Kanab, UT 84741

Documents pertinent to this proposal may be examined online at https://eplanning.blm.gov/eplanning-ui/project/2020343/510 and at the BLM Paria River District Office, 669 US-89A, Kanab, Utah 84741.

FOR FURTHER INFORMATION CONTACT: Scott M. Whitesides, Project Manager, telephone 801-539-4054; address Bureau of Land Management Utah, 440 West 200 South Suite 500, Salt Lake City, Utah 84101; email swhitesides@blm.gov. Contact Mr. Whitesides to have your name added to our mailing list. Individuals in the United States who are deaf, deafblind, hard of hearing, or have a speech disability may dial 711 (TTY, TDD, or TeleBraille) to access telecommunications relay services for contacting Mr. Whitesides. Individuals outside the United States should use the relay services offered within their country to make international calls to the point-of-contact in the United States.

SUPPLEMENTARY INFORMATION: This document provides notice that the BLM Utah State Director intends to prepare an RMP with an associated EIS for GSENM, announces the beginning of the scoping process, seeks public input on issues and relevant planning criteria, and invites the public to nominate ACECs. The planning area is located in Kane and Garfield counties and encompasses approximately 1.87 million acres of public land.

Purpose and Need for the RMP

This RMP will provide a management framework, including goals, objectives, and management direction, to guide Monument management. Purposes and needs serve to frame issue identification, alternatives development, and effects analyses. The following purposes and desired outcomes are set forward explicitly in Presidential Proclamation 10286 or have been identified based on key present and historical GSENM management challenges. Planning for these desired outcomes will be crucial for development of an RMP that provides direction for addressing critical management challenges. Associated needs and challenges that the RMP will address are also summarized.

1. Protect and restore the entirety of the large, remote, rugged, and markedly impenetrable landscapes, including dark skies and natural soundscapes. The Monument's fundamental values and objects include a rich mosaic of objects of natural, historic, and scientific interest.

Needs and challenges: The immense scale and unspoiled naturalness of the Monument serves as a foundation for the rest of the Monument objects and values, including the diversity of ecotypes and extent and diversity of geological and paleontological resources, vegetation, and wildlife. Through the latter half of the 20th century, Utah's large extent of unspoiled natural, roadless areas was unique in the lower 48 states, ultimately providing for the 1996 GSENM proclamation. Monument visitation is steadily increasing, mostly due to recreational use. International and regional tourism is rising, and Utah is the state with the fastest growing population in the last decade (18.4%); in 2021 Utah's growth was 1.7% while the national population growth was 0.1%. These increases in human presence pose diverse challenges to preservation of resources (e.g., vegetation and soil impacts, loss of potential for human solitude, adverse effects on certain wildlife species, increases in noise). Effects such as these tend to be incremental, and gradual degradation of resources over time can easily occur, almost unnoticed, without adequate management sidebars, as well as overall management goals and objectives for the landscape as a whole. Avoidance of incremental degradation, so that the unique value of a largely unspoiled, natural landscape is retained given ongoing multiple uses, warrants substantial consideration in the planning process.

2. Emphasize the Monument as a living, outdoor laboratory to be used for diverse and significant research and discovery related to the Monument's varied resources, objects, and values.

Needs and challenges: The proclamation that originally designated the Monument in 1996 explained, “Even today, this unspoiled natural area remains a frontier, a quality that greatly enhances the monument's value for scientific study.” However, the circumstances surrounding and within the Monument have changed substantially in the past 25 years (see purpose 1, above). There are substantial management challenges regarding how to maintain the unspoiled naturalness, which is essential to the Monument's purposes of science. Given the intensification of anthropogenic change in the world, natural refugia on the scale of this Monument are increasingly essential, rare, and hard to maintain. Areas such as the Monument are a cornerstone for scientific understanding of the past, and they are equally important for understanding changes and trends that allow us to appropriately plan for the future.

3. Protect and restore biological resources including five life zones, a variety of habitats, and multiple eco-regions, due largely to the remoteness and substantial variation in elevation and topography of the Monument. The Monument contains unique and isolated plant communities, various floristic communities, relic and endemic plants, diverse wildlife including unique species of invertebrates, and a biodiversity of bees, as well as amphibians, birds, and mammals including mountain lion and desert bighorn sheep.

Needs and challenges: Management of living individuals, populations, and interconnected communities and ecosystems must address a spectrum of needs and challenges. The Monument supports a range of ecotypes, as well as remnant, relic, and refugia populations across the landscape's substantial ranges of elevation and large geographic extent. Additionally, climate change and drought are outside the historic range of variability, affecting vegetation and thereby habitat and species. A key component of this planning effort will be identification of appropriate management for changing ecotypes and populations, especially given the scientific emphasis of this Monument.

4. Protect and restore the historical and cultural understanding and appreciation related to Monument objects and values. These objects and values include an exceedingly high density of archaeological sites, modern tribal uses, numerous historic routes and trails including Powell expedition routes and Mormon pioneer trails, historic inscriptions, ghost towns, cowboy line camps, and historic townsites.

This topic focuses on restoration, retention, and education/appreciation of historic and cultural resources.

Needs and challenges: Protection, restoration, identification, and appreciation of such objects and values often requires substantial on-the-ground work, such as inventories, stabilization work, and sometimes development of educational interpretive materials. The RMP planning process should clarify how to select and prioritize such efforts, as well as consider the role of collaboration with outside entities and consultation with Tribal Nations that could both (1) further the aims of understanding and appreciation of these resources and (2) support the work of protection and restoration.

5. Protect the Monument's varied geology and associated scenery with numerous unique areas and features and abundant, important paleontological resources. The entire landscape affords extraordinary visual landscapes and rich geologic and world-class paleontological resources. Reasonably accommodate challenges of remote paleontological research (e.g., transport of large fossils).

Needs and challenges: Extensive scenic exploration can be accessed via paved roads, which serve as the main arteries through the Monument. Paved roads are augmented by several maintained, unpaved roads and some lesser dirt roads. Scenic geology itself, and the opportunity for visual appreciation, is relatively easy to preserve, while other uses of these resources, for example scientific study and personal collection, will require consideration during planning in order to provide for appropriate access, use, and protection. This is important in view of the scientific purposes of the Monument.

6. Protect and restore world-class outdoor recreation opportunities, including hiking and backpacking, hunting, canyoneering, mountain biking, and horseback riding associated with a substantial, regional socioeconomic sector. Serve visitors via several visitor centers with diverse emphases, as well as provide basic facilities to ensure human health and safety (e.g., restrooms).

Needs and challenges: The majority of the direct human visitation to the Monument is recreational. While not identified as an object in need of protection, Proclamation 10286 acknowledges the world class recreational opportunities within the monument that support a travel and tourism sector that is a source of economic opportunity for the region. However, high and increasing levels of recreational visitation are a top management challenge, and appropriate management of recreational use is a central concern to be addressed by the RMP. Large numbers of visitors can degrade visitor experience, raise human safety and health issues (such as related to human waste), and may harm ecologically sensitive areas and species. Challenges in finding a balance between Proclamation objectives and rapidly rising visitation levels means that use quotas or other mitigating management actions will be considered. Additionally, substantial step-down recreation planning is needed, such as for Special Recreation Management Areas. Yet such planning has never occurred on the Monument due to the substantial time and resources it requires.

7. Protect and restore Monument objects and values within a multiple-use context. Monument lands have served multiple-use purposes since Anglo settlement in what is now the State of Utah. Such uses include, for example, grazing, hunting, and recreating. Monument lands were a combination of BLM and Utah School and Institutional Trust Lands Administration lands prior to Monument designation. Some of these lands were being used related to mining, rock hounding for alabaster, and other purposes.

Needs and challenges: Since the time of Monument designation in 1996, controversy and disputes have existed among stakeholders regarding BLM's discretionary uses. Such controversy spans the spectrum of use: allowing for uses such as mining and livestock grazing while also supporting conservation and recreation uses and promoting strong preservation interests. Establishing management that ensures protection of monument objects and values and serves other monument purposes while accommodating other uses, as appropriate, is vital in this planning process.

Preliminary Alternatives

The BLM will be analyzing alternatives that explore and evaluate different ways of achieving the purpose and need listed above. The alternatives will explore different outcomes to be addressed during this planning effort to understand the trade-offs of different land management approaches. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified several preliminary issues for this planning effort's analysis and will provide them for public review as part of the planning criteria within the timeframe identified in DATES above. The planning criteria are available for public review and comment at the ePlanning website (see ADDRESSES).

Summary of Expected Impacts

Consistent with protection of GSENM objects identified in Proclamation 10286, implementation of a new RMP may impact, either beneficially or adversely, resources and uses within GSENM, including recreation, livestock grazing, soils, water, vegetation, cultural and historic resources, paleontological resources, visual resources, designated areas, social and economic values, and other human and environmental resources. Planning decisions related to livestock grazing will also consider portions of Glen Canyon National Recreation Area because portions of livestock grazing allotments administered by the BLM cross these administrative boundaries.

Schedule for the Decision-Making Process

The BLM will provide additional opportunities for public participation consistent with NEPA and land use planning processes, including a 90-day comment period on the Draft RMP/EIS and a concurrent 30-day public protest period and a 60-day Governor's consistency review on the Proposed RMP. The Draft RMP/EIS is anticipated to be available for public review in the spring of 2023, and the Proposed RMP/Final EIS is anticipated to be available for public protest of the Proposed RMP in late 2023 with an Approved RMP and Record of Decision in spring 2024.

Public Scoping Process

This notice of intent initiates the scoping period and public review of the planning criteria, which guide the development and analysis of the Draft RMP/EIS.

The BLM will be holding a total of five scoping meetings. Two scoping meetings will be held virtually. Three scoping meetings will be conducted in-person: one in Kanab, one in Escalante, and a third meeting held at a yet-to-be-determined location. Details of all meetings will be announced once known. In compliance with Department of the Interior public health guidelines, the BLM may need to hold public meetings in a virtual format if county-level transmission of COVID-19 is “high” at the time of the public meetings. In that case, the BLM will hold five virtual public meetings.

The specific dates and locations of these scoping meetings will be announced at least 15 days in advance through local media, social media, and the ePlanning website (see ADDRESSES).

The ePlanning website (see ADDRESSES) also includes, or will include background information on GSENM, a planning process overview, preliminary planning criteria and interim management guidance. You may submit comments on issues, potential alternatives, relevant information and analyses, and the preliminary planning criteria in writing to the BLM at any public scoping meeting or to the BLM using one of the methods listed in the ADDRESSES section.

ACECs

There are currently no designated ACECs within GSENM because the BLM determined under the previous planning efforts that the management provided through those RMPs were sufficient without warranting the designation of ACECs. No areas were identified during preplanning and early engagement for consideration as ACECs.

This notice invites the public to nominate areas for ACEC consideration. To assist the BLM in evaluating nominations for consideration in the Draft RMP/EIS, please provide supporting descriptive materials, maps, and evidence of the relevance and importance of resources or hazards by the close of the public scoping period to facilitate timely evaluation (see DATES and ADDRESSES). The BLM has identified the anticipated issues related to the consideration of ACECs in the planning criteria.

Cooperating Agencies

Federal, State, and local agencies, along with Tribal Nations may request or be asked by the BLM to participate as a cooperating agency. At this time the BLM has identified the following potential cooperating agencies:

• National Park Service

• United States Fish and Wildlife Service

• USDA Forest Service

• Utah's Public Lands Policy Coordinating Office

• State of Utah School and Institutional Trust Lands Administration

• Utah State Historic Preservation Office

• Kane County, Utah

• Garfield County, Utah

• Washington County Water Conservancy District

• Kaibab Band of Paiute Indians

• Navajo Nation

• Paiute Indian Tribe of Utah

• Pueblo of Acoma

• Pueblo of San Felipe

• Pueblo of Tesuque

• Pueblo of Zuni

• San Juan Southern Paiute Tribe of Arizona

• Hopi Tribe

• Ute Indian Tribe of the Uintah and Ouray Reservation

Responsible Official

The Utah State Director is the deciding official for this planning effort.

Nature of Decision To Be Made

The nature of the decision to be made will be the State Director's selection of land use planning decisions for managing BLM-administered lands under the principles of multiple use and sustained yield in a manner that best addresses the purpose and need.

Interdisciplinary Team

The BLM will use an interdisciplinary approach to develop the plan in order to consider the variety of resource issues and concerns identified. Specialists with expertise in the following disciplines will be involved in this planning effort: cultural resources, Native American concerns, paleontology, minerals, lands/access, recreation, special designations, wildlife, livestock grazing, soils, water resources, vegetation, rangeland management, fisheries, fire management, woodlands/forestry, socioeconomics, environmental justice, visual resources, night sky, soundscapes, air quality, and climate change.

Additional Information

The BLM will identify, analyze, and consider mitigation to address the reasonably foreseeable impacts to resources from the proposed plan and all analyzed alternatives and, in accordance with 40 CFR 1502.14(f), include appropriate mitigation measures not already included in the proposed plan or alternatives. Mitigation may include avoidance, minimization, rectification, reduction or elimination over time, and compensation; it may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including the public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts on cultural resources, will be given due consideration. Federal, State, and local agencies, along with Indian Tribal Nations and other stakeholders that may be interested in or affected by the proposed GSENM RMP that the BLM is evaluating, are invited to participate in the scoping process and, if eligible, may request or be requested by the BLM to participate in the development of the environmental analysis as a cooperating agency. The BLM intends to hold a series of government-to-government consultation meetings. The BLM will send invitations to potentially affected Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Gregory Sheehan,
State Director.

[FR Doc. 2022-16296 Filed 7-28-22; 8:45 am]

BILLING CODE 4331-25-P